DEPARTMENT OF AGRICULTURE

Forest Service

Request for Proposals for 2011 Woody Biomass Utilization Grant Program

AGENCY: Forest Service, USDA.

ACTION: Request for proposals.

SUMMARY: The Forest Service, U.S. Department of Agriculture, State and Private Forestry, Technology Marketing Unit, located at the Forest Products Laboratory, requests proposals for wood energy projects that require engineering services. These projects will use woody biomass material removed from forest restoration activities, such as wildfire hazardous fuel treatments, insect and disease mitigation, forest management due to catastrophic weather events, and/or thinning overstocked stands. The woody biomass shall be used in a bioenergy facility that uses commercially proven technologies to produce thermal, electrical, or liquid/gaseous bioenergy. The funds from the Woody Biomass Utilization Grant program (WBU) must be used to further the planning of such facilities by funding the engineering services necessary for final design and cost analysis. Examples of such projects include engineering design of a (1) woody biomass boiler for steam at a sawmill, (2) non-pressurized hot water system for various applications at a hospital or school, and (3) biomass power generation facility, or similar facilities. This program is aimed at helping applicants complete the necessary design work needed to secure public and/or private investment for construction. In particular, USDA Rural Development has established grants and loan programs that might help fund construction of such facilities. However, engineering design must be completed prior to submitting an application to this and other Federal, State, or private funding sources.

DATES: Tuesday, March 1, 2011.

ADDRESSES: All applications must be sent to the respective Forest Service Regional Office listed below for initial review. These offices will be the point of contact for final awards.

Forest Service, Region 1, (MT, ND, Northern ID & Northwestern SD)

ATT: Dave Atkins, USDA Forest Service, Northern Region (R1), Federal Building, 200 East Broadway, Missoula, MT 59807, datkins@fs.fed.us, (406) 329-3134

Forest Service, Region 2, (CO, KS, NE, SD, & WY)

ATT: Susan Ford, USDA Forest Service, Rocky Mountain Region (R2), 740 Simms St., Golden, CO 80401-4720, sbford@fs.fed.us, (303) 275-5742

Forest Service, Region 3, (AZ & NM)

ATT: Jerry Payne, USDA Forest Service, Southwestern Region (R3), 333 Broadway Blvd., SE., Albuquerque, NM 87102, jpayne01@fs.fed.us, (505) 842-3391

Forest Service, Region 4, (Southern ID, NV, UT, & Western WY)

ATT: Scott Bell, USDA Forest Service, Intermountain Region (R4), Federal Building, 324 25th St., Ogden, UT 84401-2300, sbell@fs.fed.us, (801) 625-5259

Forest Service, Region 5, (CA, HI, Guam and Trust Territories of the Pacific Islands)

ATT: Janice Gauthier, USDA Forest Service, Pacific Southwest Region (R5), 1323 Club Drive, Vallejo, CA 95492-1110, jgauthier@fs.fed.us, (707) 562-8875

Forest Service, Region 6, (OR & WA)

ATT: Ron Saranich, USDA Forest Service, Pacific Northwest Region (R6), 333 SW 1st Ave., Portland, OR 97204, rsaranich@fs.fed.us, (503) 808-2346

Forest Service, Region 8, (AL, AR, FL, GA, KY, LA, MS, NC, OK, SC, TN, TX, VA, Virgin Islands & Puerto Rico)

ATT: Tim Mersmann, USDA Forest Service, Southern Region (R8), 1720 Peachtree Rd., NW., Atlanta, GA 30309, tmersmann@fs.fed.us, (404) 347-1649

Forest Service, Region 9, (CT, DL, IL, IN, IA, ME, MD, MA, MI, MO, NH, NJ, NY, OH, PA, RI, VT, WV, WI)

ATT: Lew McCreery, Northeastern Area—S&PF, 11 Campus Blvd., Suite 200, Newtown Square, PA 19073-3200, lmccreery@fs.fed.us, (304) 285-1538

Forest Service, Region 10, (Alaska)

ATT: Steve Patterson, USDA Forest Service, Alaska Region (R10), 3301 C Street, Suite 202, Anchorage, AK 99503-3956, spatterson@fs.fed.us, (907) 743-9451

Detailed information regarding what to include in the application, definitions of terms, eligibility, and necessary prerequisites for consideration are available at http://www.fpl.fs.fed.us/tmu, and at http://www.grants.gov. Paper copies of the information are also available by contacting the U.S. Forest Service, S&PF Technology Marketing Unit, One Gifford Pinchot Dr., Madison, Wisconsin 53726-2398, 608-231-9518.

FOR FURTHER INFORMATION CONTACT: For questions regarding the grant application or administrative regulations, contact your appropriate Forest Service Regional Biomass Coordinator as listed in the addresses above or contact Susan LeVan-Green, Program Manager of the Technology Marketing Unit, 608-231-9518, slevan@fs.fed.us.

Individuals who use telecommunication devices for the deaf (TDD) may call the Federal Relay Service (FRS) at 1-800-877-8339 twenty-four hours a day, every day of the year, including holidays.

SUPPLEMENTARY INFORMATION: To address the goals of Public Law 110-234, Food, Conservation, and Energy Act of 2008, Rural Revitalization Technologies (7 U.S.C. 6601), and the anticipated Department of the Interior, Environment, and Related Agencies Appropriation Act of 2011, the Agency is requesting proposals to address the nationwide challenge of using low-value woody biomass material to create renewable energy.

Goals of the grant program are:

• Promote projects that target and help remove economic and market barriers to using woody biomass for renewable energy.

• Assist projects that produce renewable energy from woody biomass.

• Reduce forest management costs by increasing the value of biomass and other forest products generated from hazardous fuels reduction and forest health activities on forested lands.

• Create incentives and/or reduce business risk to increase use of woody biomass from our nation's forestlands for renewable energy projects.

Grant Requirements

1. Eligibility Information

a. Eligible Applicants. Eligible applicants are businesses, companies, corporations, State, local and tribal governments, school districts, communities, non-profit organizations, or special purpose districts (e.g., public utilities districts, fire districts, conservation districts, or ports). Only one application per business or organization shall be accepted.

b. Cost Sharing (Matching Requirement). Applicants shall demonstrate at least a 20 percent match of the total project cost. This match shall be from non-Federal sources, which can include cash or in-kind contributions.

c. DUNS Number. All applicants shall include a Dun and Bradstreet, Data Universal Numbering System (DUNS) number in their application. For this requirement, the applicant is the entity that meets the eligibility criteria and has the legal authority to apply and receive a WBU grant. For assistance in obtaining a DUNS number at no cost, call the DUNS number request line 1-866-705-5711 or register on-line at http://fedgov.dnb.com/webform.

d. Central Contractor Registration (CCR). The applicant acknowledges the requirement that prospective awardees shall be registered in the Central Contractor Registration (CCR) database prior to award, during performance, and through final payment of any grant resulting from this solicitation. Further information can be found at http://www.ccr.gov. For assistance, contact the CCR Assistance Center 1-866-606-8220.

2. Award Information

Total funding anticipated for awards is $3.7 million for the 2011 WBU program. Individual grants cannot exceed $250,000. The Federal government's obligation under this program is contingent upon the availability of 2011 appropriated funds. No legal liability on the part of the Government shall be incurred until funds are committed by the grant officer for this program to the applicant in writing. Grants can be for 2 years from the date of award. Written annual financial performance reports and semi-annual project performance reports shall be required and submitted to the appropriate grant officer. The grant funds are taxable income and a Form 1099 Miscellaneous Income will be sent by the U.S. Forest Service to the Internal Revenue Service (IRS). Awardees are expected to follow all Occupational Safety and Health Administration (OSHA) requirements regarding safe working practices and all applicable Federal, State, and local regulations pertinent to the proposed project.

3. Application Prerequisites

This grant program requires that projects have had considerable advance work prior to the grant application. Only applications that have already completed, at minimum (a) a Comprehensive Feasibility Assessment of the project by qualified and credible parties, and (b) a Woody Biomass Resource Supply Assessment, shall be considered. These two reports shall be provided for evidence and demonstration of the viability of the project with the application in the Appendix.

a. The Comprehensive Feasibility Assessment shall address, at minimum, the following items:

• Economic feasibility analysis of site, labor force wages and availability, utilities, access and transportation systems, raw material feedstock needs, and overall economic impact, including job creation and retention, displayed by employment associated with operating the facility itself and supplying the facility (jobs created and jobs retained on a full-time equivalent basis). Also required in the economic analysis is a market feasibility study, including analysis of the market(s) for the power, heat, fuel, or other energy product produced, market area, marketing plans for projected output, if needed, extent of competition for the particular target market(s), extent of competition for supply and delivered costs, and general characterization of supply availability (more detailed information is provided in the Woody Biomass Resource Supply Assessment section).

• Technical feasibility analysis shall include an assessment of the recommended renewable energy technology, what other technologies were considered, why the recommended renewable energy technology was chosen, assessment of site suitability given the recommended renewable energy technology, actions and costs necessary to mitigate environmental impacts sufficient to meet regulatory requirements, developmental costs, capital investment costs, operational costs, projected income, estimated accuracy of these costs and income projections, realistic sensitivity analysis with clear and explicit assumptions, and identification of project constraints or limitations.

• Financial feasibility analysis shall include projected income and cash flow for at least 36 months, description of cost accounting system, availability of short-term credit for operational phase, and pro forma with clear and explicit assumptions.

• List of personnel and teams undertaking project development, implementation, and operations, including a clear description of how continuity between project phases will be maintained. Describe the qualification of each team member including education and management experience with the same or similar projects, and how recently this experience occurred.

b. The Woody Biomass Resource Supply Assessment shall provide a description of the available woody biomass resource supply. At a minimum the assessment should address the following items:

• Feedstock location and procurement area relative to the project site;

• Types of biomass fuel available and realistic pricing information based on fuel specifications required by the technology chosen, including explicit break-out of forest-sourced, agricultural-sourced and urban-sourced biomass;

• Volume potentially available by ownership, fuel type, and source of biomass supply, considering recovery rates and other factors, such as Federal, State, and local policy and management practices;

• Volume realistically and economically available by ownership, fuel type, and source of biomass supply, considering recovery rates and other factors, such as Federal, State, and local policy and management practices;

• Detailed risk assessment of future biomass fuel supply including, but not limited to, impacts of potential Federal, State, and local policy changes, availability of additional fuel types, increased competition for biomass resource supply, and changes in transportation costs;

• Summary of total fuel realistically and economically available versus projected annual fuel use (i.e. a ratio usually exceeding 2.0:1); and

• Minimum 5-year biomass fuel pricing forecast for material or blend of material meeting fuel specifications delivered to project site (required for financial pro forma).

4. Application Evaluation

Applications are evaluated against criteria discussed in Section 5. All applications shall be screened to ensure compliance with the administrative requirements as set forth in this Request for Proposals (RFP). Applications not following the directions for submission shall be disqualified without appeal. Directions can be found at http://www.fpl.fs.fed.us/tmu under Grants and Funding.

The appropriate Forest Service region will provide a preliminary screen based on grant administrative requirements and regional priorities of environmental, social, and economic impacts. Each region may submit up to seven proposals for the nationwide competition. The nationwide competition will consist of a technical and financial review of the proposed project by Federal experts or their designees. Panel reviewers independently evaluate each proposed project for technical and financial merit and assign a score using the criteria listed in Section 5. Technical and financial merits, along with the regional priorities, shall be submitted to the Forest Service national leadership, who make the final decision of the selected projects based on technical and financial merit and regional/national priorities.

5. Evaluation Criteria and Point System

If a reviewer determines that a proposal meets minimum requirements for a criterion, half the number of points will be awarded. More points can be earned if the reviewer determines that a proposal exceeds the minimum and less if the opposite. A maximum of 200 total points can be earned by a proposal.

Criteria

a. Required Comprehensive Feasibility Assessment is thorough and complete, conducted by a qualified and experienced professional team; and project is economically viable using relevant and accepted financial metrics. Total Points 30.

b. Required Woody Biomass Resource Supply Assessment conforms to professional standards for size and complexity of proposed facility, is suitable for appropriate lender or public financing review; and projected biomass quantity and sourcing arrangements from forested land management activities are clearly identified on an annual basis. Total Points 30.

c. Number of projected jobs created and/or retained (direct or indirect) when project goes in service is reasonable and substantiated. Total Points 15.

d. Amount and type of fossil fuel offset in therms/year once project is operational provides impact in geographic area appropriate for size of projected facility and is reasonable and substantiated. Total Points 15.

e. Documentation of partnerships and qualifications necessary for the development and operation of the proposed facility, including roles and directly relevant qualifications of Development, Engineering, Management, Construction, and Operations Teams or similar, are adequate and appropriate for project. Total Points 30.

f. Proposed engineering design components reflect accepted professional standards for type and complexity of proposed facility and are complete. Total Points 20.

g. Financial plan and sources of funding are described in detail for all phases of the project, including, but not limited to, development, construction, and operations. Total Points 30.

h. Detailed description of Federal, State, and local environmental, health and safety regulatory and permitting requirements, and realistic projected timeline for completion are provided. Total Points 30.

6. Application Information

a. Application Submission. Applications shall be post marked by Tuesday, March 1, 2011, and received no later than 5 p.m. on Friday, March 4, 2011. NO EXCEPTIONS. One paper copy and an electronic version shall be submitted to the Regional Biomass Coordinator of your Forest Service region, as listed previously in the ADDRESSES section. Your Forest Service region is determined by the State or Forest Service region where the bioenergy facility will be sited. The electronic version submitted to the Regional Biomass Coordinator should be on a USB flash drive or compact disc (CD). No emails shall be accepted. Applications may also be submitted electronically through http://www.grants.gov.

b. Application Format. Each submittal shall be in PDF format, with a minimum font size of 11 letters per inch. Top, bottom, and side margins shall be no less than three-quarters of an inch. All pages shall be clearly numbered. Paper copy shall be single sided on 8.5- by 11-inch plain white paper only (no colored paper, over-sized paper, or special covers). Do not staple.

c. Application Content. All forms can be found at http://www.fpl.fs.fed.us/tmu under Grants and Funding.

i. Project Narrative.

The project narrative shall provide a clear description of the work to be performed, impact on removing woody biomass and creating renewal energy (e.g. tons of biomass removed that would have otherwise been burned, cost savings to landowners, source of biomass removed from forested areas, broken-out by ownership), and how jobs will be created and/or retained and sustained. The project narrative is limited to 10 pages, and excludes Project Summary, SF 424 and SF 424A, budget summary justification, community benefit statement, and letters of support.

The project narrative shall include, but is not limited to, the following:

• Geographical location where project takes place, condition of the forestland(s), and consequences of not doing forest health treatments.

• Current handling and disposal practices for material available for project.

• Proposed woody biomass bioenergy facility, markets and customers, amount of woody biomass that will be used on an annual basis, amount and type of fossil-based fuel offset and recommendations from the Comprehensive Feasibility Assessment.

• Various required elements of the engineering design analysis and bid process. The engineering design analysis shall ensure public safety, compliance with all relevant and applicable laws, regulations, agreements, permits, codes, and standards. Engineering services shall only be procured from qualified parties, usually professional engineering firms that assume responsibility and liability for system design. The engineering analysis must be complete, comprehensive, and include site selection, system and component selections, including emissions systems, and system monitoring equipment. Minimum analysis shall include: (1) Fuel specification; (2) equipment specification and design layout; (3) load and power analysis; (4) alternative scenarios with pros and cons of each and associated cost analysis; (5) siting requirements for each scenario; (6) agreements, permits and certifications necessary for each alternative; and (7) bid preparation.

• Brief discussion of qualifications of proposed engineering firm (full description of qualifications and portfolio of designs shall be included in Appendix 3).

• Explanation of how the project will improve efficiencies for harvesting or processing woody biomass into renewable energy.

• Detailed description of technologies that the engineering services will analyze (combustion, two-stage gasification, fermentation, etc.).

• Clear explanation of how the project will retain, create, or expand local jobs opportunities once the system is operational, how these jobs will be sustained, and how they will be documented for audit purposes.

• Project work plan, including start and end dates, key tasks, previous project feasibility studies (as appropriate), and timelines.

• Identification of individuals responsible for implementing and ensuring project success.

• Long-term benefits of project and the length of time the benefits and impacts are anticipated.

• Expansion capability, such as potential to expand the application.

• Environmental documentation and permits, if applicable, and positive and negative environmental consequences to forested lands with and without project.

• Projected reduction in green house gases and water pollution, improvements in wildlife habitats, and adoption of new cleaner technologies.

• Explanation of evaluation and monitoring plans and how these would be implemented to evaluate degree of success.

• Description of accountability and reporting procedures to ensure all requirements of this grant are achieved.

ii. Appendices.

The following information shall be included in appendices to the application in addition to the Comprehensive Feasibility Assessment and Woody Biomass Resource Supply Assessment.

• Qualifications and Portfolio of Engineering Services: For the engineering systems, the project usually consists of a system designer, project manager, equipment supplier, project engineer, construction contractor of system installer, and a system operator and maintainer. One individual or entity may serve more than one role. The project team must have demonstrated expertise in similar bioenergy systems development, engineering, installation, and maintenance. Authoritative evidence that project team service providers have the necessary professional credentials or relevant experience to perform the required services must be provided. Authoritative evidence that vendors of proprietary components can provide necessary equipment and spare parts for the system to operate over its design life must also be provided. A list of the same or similar projects designed, installed, and currently operating with references shall be provided along with appropriate contacts.

• Quotes for Professional Engineering Services Considered (minimum of two quotes): Rationale for selection of engineering firm, if already selected.

• Community Benefit Statement (maximum one page): One page narrative on social, environmental and economic impact and importance of project to community. Include substantiated facts and benefits, such as local employment rate, per capita income and fossil fuel impacts with and without the project. Letters of support from community leaders demonstrating on-going community collaboration, where appropriate. Forest Service regions shall use this information to help evaluate regional impacts, particularly impact of job creation and retention as appropriate at the geographic scale for the region. This information will not be sent forward to technical reviewers.

• Letters of Support from Partners, Individuals, or Organizations: Letters of support shall be included in an appendix and are intended to display the degree of collaboration occurring between the different entities engaged in the project. These letters shall include partner commitments of cash or in-kind services from all those listed in the SF 424 and SF 424A. Each letter of support is limited to one page in length.

• Federal Funds: List all other Federal funds received for this project within the last 3 years. List agency, program name, and dollar amount.

• Administrative Forms: AD 1047, 1048, 1049, SF 424B and certificate regarding lobbying activities are standard forms that need to be included and are required before a grant can be awarded. These forms can be accessed at http://www.fpl.fs.fed.us/tmu under Grants and Funding.

c. Application Order. Assemble information in the following order.

• Project Summary (one page limit)

• Application for Federal Assistance SF 424 and Budget Summary SF 424A

• Project Narrative (10 page limit)

• Budget Summary Justification in support of SF 424A (two page limit)

• Appendices

(1) Comprehensive Feasibility Assessment.

(2) Woody Biomass Resource Supply Assessment.

(3) Qualifications and experience portfolio of engineering firm who will do engineering design work.

(4) Quotes for professional engineering services (minimum of two quotes).

(5) Community Benefit Statement (maximum of one page).

(6) Letters of support or commitment.

(7) List of all other federal funds received for this project.

(8) Administrative Forms (found at http://www.fpl.fs.fed.us/tmu).

(a) SF 424B Assurances.

(b) AD 1047 Certification Regarding Debarment Primary Tier.

(c) AD 1048 Certification Regarding Debarment Lower Tier.

(d) AD 1049 Certification Regarding Drug Free Workplace.

(e) Certification Regarding Lobbying.

Dated: November 30, 2010.
Robin L. Thompson.
Associate Deputy Chief, State and Private Forestry.

[FR Doc. 2010-30974 Filed 12-8-10; 8:45 am]

BILLING CODE 3410-11-P